DEPARTMENT OF DEFENSE

Office of the Secretary

[Transmittal No. 22-17]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-17 with attached Policy Justification and Sensitivity of Technology.

Dated: May 21, 2024.
Aaron T. Siegel,
Alternate OSD Federal Register Liaison Officer, Department of Defense.

BILLING CODE 6001-FR-P

BILLING CODE 6001-FR-C

Transmittal No. 22-17

Notice of Proposed Issuance of Letter of Offer Pursuant to Section 36(b)(1) of the Arms Export Control Act, as amended

(i) Prospective Purchaser: NATO Support and Procurement Agency (NSPA) as Lead Nation for Belgium, Czech Republic, Denmark, Finland, Greece, Hungary, Italy, the Netherlands, Norway, Poland, Portugal, Spain and the United Kingdom

(ii) Total Estimated Value:

Major Defense Equipment * | $21.8 million
Other | $ 0.9 million
Total | $22.7 million

Funding Source: National Funds

(iii) Description and Quantity or Quantities of Articles or Services under Consideration for Purchase: Foreign Military Sales (FMS) case N4-D-YAB, was below congressional notification threshold at $1.87 million ($1.78 million in MDE) and included forty (40) GBU-39/B Small Diameter Bombs, Increment I. NATO Support and Procurement Agency as Lead Nation has requested the case be amended to include the below listed, additional MDE and non-MDE items and services. This amendment will push the current case above the MDE notification threshold and thus requires notification of the entire case.

Major Defense Equipment (MDE):

Two hundred seventy-nine (279) GBU-39/B Small Diameter Bombs, Increment I

Two hundred four (204) FMU-152 Fuzes

Two hundred four (204) MK-82 500LB General Purpose Bombs

Fifty (50) BLU-109 2000LB Hard Target Penetrator Bombs

Non-MDE:

Also included are smoke signal cartridges; engineering and technical support and assistance; and other related elements of logistical and program support.

(iv) Military Department: Air Force (N4-D-YAB)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: June 22, 2022

* As defined in Section 47(6) of the Arms Export Control Act.

POLICY JUSTIFICATION

NATO Support and Procurement Agency (NSPA)—Precision Guided Munitions

NATO Support and Procurement Agency as Lead Nation has requested the possible sale of two hundred thirty-nine (239) GBU-39/B Small Diameter Bombs, Increment I; two hundred four (204) FMU-152 fuzes; two hundred four (204) MK-82 500LB General Purpose Bombs; and fifty (50) BLU-109 2000LB Hard Target Penetrator Bombs, that will be added to a previously implemented case. The original FMS case, valued at $1.87 million, included forty (40) GBU-39/B Small Diameter Bombs, Increment I. Therefore, this notification is for a total of two hundred seventy-nine (279) GBU-39/B Small Diameter Bombs, Increment I; two hundred four (204) FMU-152 fuzes; two hundred four (204) MK-82 500LB General Purpose Bombs; and fifty (50) BLU-109 2000LB Hard Target Penetrator Bombs. Also included are smoke signal cartridges; engineering and technical support and assistance; and other related elements of logistical and program support. The total estimated cost is $22.7 million.

This proposed sale supports the foreign policy and national security of the United States by increasing the flexibility of Belgium, Czech Republic, Denmark, Finland, Greece, Hungary, Italy, the Netherlands, Norway, Poland, Portugal, Spain, and the United Kingdom, twelve NATO nations and one NATO enhanced opportunity partner nation, to contribute to overseas contingency operations. This sale increases the quantity of precision-guided munitions within NATO and allows for their pre-coordinated transfer in support of national and NATO requirements.

The proposed sale will improve NATO's capability to meet current and future ground threats with precision. NATO will use the enhanced capability as a deterrent to regional threats, and to increase interoperability within contingency operations. Many of the purchasing nations already have precision-guided munitions in their inventories and will all have no difficulty absorbing these munitions into its armed forces.

The proposed sale of this equipment and support will not alter the basic military balance in the region.

The principal contractors for production are the Boeing Corporation, St Louis, MO; and Raytheon Missile Systems, Tucson, AZ. The principal contractor for integration is unknown and will be determined during contract negotiations. There are no known offset agreements proposed in connection with this potential sale.

Implementation of this proposed sale will not require the assignment of any additional U.S. Government or contractor representatives to NATO.

There will be no adverse impact on U.S. defense readiness as a result of this proposed sale.

Transmittal No. 22-17

Notice of Proposed Issuance of Letter of Offer Pursuant to Section 36(b)(1) of the Arms Export Control Act

Annex

Item No. vii

(vii) Sensitivity of Technology:

1. The GBU-39 Small Diameter Bomb Increment 1 (SDB-1) is a 250 pound GPS-aided inertial navigation system, small autonomous, day or night, adverse weather, conventional, air-to-ground precision glide weapon able to strike fixed and stationary re-locatable non-hardened targets from standoff ranges. It is intended to provide aircraft with an ability to carry a high number of bombs. Aircraft are able to carry four SDBs in place of one 2,000 pound bomb.

2. The Joint Programmable Fuze (JPF) FMU-152 is a multi-delay, multi-arm and proximity sensor compatible with general purpose blast, frag and hardened-target penetrator weapons. The JPF settings are cockpit selectable in flight when used with numerous precision-guided weapons.

3. MK-82 General Purpose (GP) bomb is a 500 pound, free-fall, unguided, low-drag weapon used for attacking soft and intermediately protected targets.

4. The BLU-109 is a 2,000 pound hard target penetrator warhead designed to penetrate hardened structures before detonating.

5. The highest level of classification of defense articles, components, and services included in this potential sale is SECRET.

6. If a technologically advanced adversary were to obtain knowledge of the specific hardware and software elements, the information could be used to develop countermeasures that might reduce weapon system effectiveness or be used in the development of a system with similar or advanced capabilities.

7. A determination has been made that NATO Support and Procurement Agency (NSPA) and the participating countries can provide substantially the same degree of protection for the sensitive technology being released as the U.S. Government. This sale is necessary in furtherance of the U.S. foreign policy and national security objectives outlined in the Policy Justification.

8. All defense articles and services listed in this transmittal have been authorized for release and export to NSPA, Belgium, Czech Republic, Denmark, Finland, Greece, Hungary, Italy, the Netherlands, Norway, Poland, Portugal, Spain, and the United Kingdom.

[FR Doc. 2024-11519 Filed 5-23-24; 8:45 am]

BILLING CODE 6001-FR-P